DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: 2002 Survey of Mental Health Organizations, General Hospital Mental Health Services, and Managed Care Organizations (SMHO)—(OMB No 0930-0119, Revision)—The 2002 SMHO, to be conducted by SAMHSA's Center for Mental Health Services (CMHS), will be conducted in two phases. There will be only minor changes to the forms used in the 2000 SMHO. Phase I will be a brief two-three page inventory consisting of four forms: (1) A specialty mental health organization form; (2) A general hospital or Veterans Affairs Medical Center with either separate mental health services or integrated mental health services forms; (3) A community residential organization form; and (4) A managed behavioral healthcare organization form. This short inventory will be sent to all known organizations to define the universe of valid mental health organizations to be sampled in Phase II. The inventory will collect basic information regarding the name and address of the organizations, their type and ownership, size measures (e.g., number of staff), and the kinds of services provided.

Phase II will sample approximately 2,000 mental health organizations and utilize a more detailed survey instrument. Although the Sample Survey form will be more comprehensive, it will be very similar to surveys and inventories fielded in 2000 and earlier. The organizational data to be collected by the Sample Survey form include university affiliation, client/patient census by basic demographics, revenues, expenditures, and staffing.

The resulting data base will be used to provide national estimates and will be the basis of the National Directory of Mental Health Services. In addition, data derived from the survey will be published by CMHS in Data Highlights, in Mental Health, United States, and in professional journals such as Psychiatric Services and the American Journal of Psychiatry. Mental Health, United States is used by the general public, state governments, the U.S. Congress, university researchers, and other health care professionals. The following table summarizes the burden for the survey.

Questionnaire | Number of respondents | Responses/ respondent | Average hours/ response | Total burden (Hrs.)
Phase I (Inventory)
Specialty Mental Health Organizations | 3,342 | 1 | 0.25 | 836
General Hospitals: |  |  |  |
with Separate Psych. Units | 1,622 | 1 | 0.25 | 406
without Separate Psych. Units | 3,514 | 1 | 0.25 | 879
VA Medical Centers | 145 | 1 | 0.25 | 36
Community Residential Organizations | 945 | 1 | 0.025 | 236
Managed Care Organizations | 990 | 1 | 0.025 | 248
Phase II (Sample Survey)
Specialty Mental Health Organizations | 1,308 | 1 | 3.50 | 4,578
General Hospitals and VA Hospitals with Separate Mental Health Services | 692 | 1 | 3.50 | 2,422
Total | 12,558 |  |  | 9,641
3-year Average | 4,186 |  |  | 3,214

Send comments to Nancy Pearce, SAMHSA Reports Clearance Officer, Room 16-105, Parklawn Building, 5600 Fishers Lane, Rockville, MD 20857. Written comments should be received within 60 days of this notice.

Dated: January 22, 2002.
Richard Kopanda,
Executive Officer, SAMHSA.

[FR Doc. 02-2087 Filed 1-28-02; 8:45 am]

BILLING CODE 4162-20-P